DEPARTMENT OF HEALTH AND HUMAN SERVICES

DEPARTMENT OF AGRICULTURE

Announcement of Meeting of 2005 Dietary Guidelines Advisory Committee, Invitation for Oral Testimony, and Solicitation of Written Comments

AGENCIES: U.S. Department of Health and Human Services (HHS), Office of Public Health and Science; and U.S. Department of Agriculture (USDA), Food, Nutrition and Consumer Services and Research, Education and Economics.

ACTION: Notice.

SUMMARY: The U.S. Department of Health and Human Services and the U.S. Department of Agriculture (a) provide notice of the second meeting of the Committee, (b) invite requests for oral testimony, and (c) solicit written comments.

DATES: (1) The Committee will meet on January 28 and 29, 2004, 8:30 a.m. to 5:30 p.m. on both days. (2) Requests to present oral testimony, to be presented in the afternoon of the first day, must be received by 5 p.m. E.S.T. on January 16, 2004. (3) Written comments on the guidelines must be received by 5 p.m. E.S.T. on January 16, 2004, to ensure transmittal to the Committee prior to this meeting.

ADDRESSES: Requests for oral testimony and written comments can be sent to dietaryguidelines@osophs.dhhs.gov or mailed to Kathryn McMurry, HHS Office of Disease Prevention and Health Promotion, Office of Public Health and Science, Room 738-G, 200 Independence Ave., SW., Washington, DC 20201.

FOR FURTHER INFORMATION CONTACT: HHS Co-Executive Secretaries: Kathryn McMurry or Karyl Thomas Rattay (phone 202-690-7102), HHS Office of Disease Prevention and Health Promotion, Office of Public Health and Science, Room 738-G, 200 Independence Ave., SW., Washington, DC 20201. USDA Co-Executive Secretaries: Carole Davis (phone 703-305-7600), USDA Center for Nutrition Policy and Promotion, 3101 Park Center Drive, Room 1034, Alexandria, Virginia 22302, or Pamela Pehrsson (phone 301-504-0716), USDA Agricultural Research Service, Beltsville Agricultural Research Center-West, Building 005, Room 309A, Beltsville, Maryland 20705. Additional information is available on the Internet at http://www.health.gov/dietaryguidelines.

SUPPLEMENTARY INFORMATION: Dietary Guidelines Advisory Committee: The thirteen-member Committee appointed by the two Departments is chaired by Janet King, Ph.D., R.D., Children's Hospital Oakland Research Institute, Oakland, California. Other members are Lawrence J. Appel, M.D., M.P.H., Johns Hopkins University School of Medicine, Baltimore, Maryland; Yvonne L. Bronner, Sc.D., R.D., L.D., Morgan State University, Baltimore, Maryland; Benjamin Caballero, M.D., Ph.D., Johns Hopkins University Bloomberg School of Public Health, Baltimore, Maryland; Carlos A. Camargo, M.D., Dr.P.H., Harvard University, Boston, Massachusetts; Fergus M. Clydesdale, Ph.D., University of Massachusetts, Amherst, Amherst, Massachusetts; Vay Liang W. Go, M.D., University of California at Los Angeles, Los Angeles, California; Penny M. Kris-Etherton, Ph.D., R.D., Pennsylvania State University, University Park, Pennsylvania; Joanne R. Lupton, Ph.D., Texas A&M University, College Station, Texas; Theresa A. Nicklas, Dr.P.H., M.P.H., L.N., Baylor College of Medicine, Houston, Texas; Russell R. Pate, Ph.D., University of South Carolina, Columbia, South Carolina; F. Xavier Pi-Sunyer, M.D., M.P.H., Columbia University College of Physicians and Surgeons, New York, New York; and Connie M. Weaver, Ph.D., Purdue University, West Lafayette, Indiana.

Purpose of Meeting: The appointment of the Committee reflects the commitment by the Departments of Health and Human Services and Agriculture to provide sound and current dietary guidance to consumers. The National Nutrition Monitoring and Related Research Act of 1990 (Pub. L. 101-445, Title III) requires the Secretaries of HHS and USDA to publish the Dietary Guidelines for Americans at least every five years. During its first meeting, the Dietary Guidelines Advisory Committee decided that the science has changed since the 2000 edition of Nutrition and Your Health: Dietary Guidelines for Americans and further evaluation of the science is necessary. Therefore, it will conduct a review of current scientific and medical knowledge and provide a technical report of any recommendations to the Secretaries for the year 2005 edition.

Announcement of Meeting: The Committee's second meeting will take place on January 28 and 29, 2004 from 8:30 a.m. to 5:30 p.m. The meeting will be held at the Hotel Washington, located on 15th St. and Pennsylvania Ave., NW., Washington, DC 20004, in the Ballroom on the lower lobby. The location is three blocks from the Metro Center metro station and about three blocks from the McPherson Square metro station. Parking is available at a local garage located on F Street, next to the hotel. The main entry to the building is located on 15th Street and a side entrance is available on the F Street side of the hotel. The agenda will include (a) presentations from invited experts, (b) oral testimony from pre-registered individuals or groups, (c) discussion of scientific reviews and related issues, and (d) formulation of plans for future work of the Committee.

Public Participation at Meeting: Space is limited for all sessions. The meeting is open to the public. Pre-registration is required. To pre-register, please email dietaryguidelines@osophs.dhhs.gov, with “Meeting Registration” in the subject line or call Marianne Augustine at (202) 260-2322 by 5 p.m. E.S.T., January 16, 2004. Registration must include your name, affiliation, phone number, and days attending. Visitors must bring proper identification to attend the meeting. If you require a sign language interpreter, please call Marianne Augustine at (202) 260-2322 by January 13, 2004. Documents pertaining to Committee deliberations will be available for public inspection and copying in Room 738-G, 200 Independence Avenue, SW., Washington, DC 20201 on the day before the meeting and following the meeting. Please call (202) 690-7102 to schedule an appointment to view the documents.

Oral Testimony: By this notice, the Committee is inviting submission of applications for oral testimony from the public. Oral testimony will be held in the afternoon of January 28, 2004. Due to time limitations, pre-registration is required. Registration to present oral testimony will be confirmed on a first-come, first-serve basis, as time on the meeting agenda permits. Requests to testify must include a written outline of the intended testimony not exceeding one page in length. Requests can be submitted electronically with “Oral Testimony Registration” in the subject line, to dietaryguidelines@osophs.dhhs.gov. All requests must be received by 5 p.m. E.S.T., January 16, 2004. Presenters are required to disclose their affiliation and their source of funding to give oral testimony at the meeting and limit their comments to three minutes. More detailed, written comments may be submitted separately. Please call Marianne Augustine at (202) 260-2322 if you have questions.

Written Comment: By this notice, the Committee is soliciting submission of written comments, views, information and data pertinent to review of the Dietary Guidelines for Americans. For those submitting comments more than 5 pages in length, please provide a 1-page summary of key points related to the comments submitted for the Dietary Guidelines Advisory Committee. To ensure transmittal to the Committee prior to the second meeting, they must be submitted by 5 p.m. E.S.T. on Tuesday, January 16, 2004. Comments are welcome throughout the Committee's deliberations. Comments should be sent to dietaryguidelines@osophs.dhhs.gov or to Kathryn McMurry, HHS Office of Disease Prevention and Health Promotion, Office of Public Health and Science, Room 738-G, 200 Independence Avenue, SW., Washington, DC 20201.

Dated: December 17, 2003.
Carter Blakey,
Acting Director, Office of Disease Prevention and Health Promotion, U.S. Department of Health and Human Services.
Dated: December 19, 2003.
Eric J. Hentges,
Executive Director, Center for Nutrition Policy and Promotion, U.S. Department of Agriculture.
Dated: December 17, 2003.
Edward Knipling,
Acting Administrator, Agricultural Research Service, U.S. Department of Agriculture.

[FR Doc. 03-31801 Filed 12-24-03; 8:45 am]

BILLING CODE 4150-32-P